ENVIRONMENTAL PROTECTION AGENCY

[EPA-HQ-OPP-2009-0207; FRL-9904-26]

Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. The registrants submitting voluntary requests for cancellation are Sergeant's Pet Care Products, Inc. (Sergeant's) and Wellmark International (Wellmark). Regarding Sergeant's, EPA intends to grant this request at the close of the comment period for this announcement unless the Agency receives substantive comments within the comment period that would merit its further review of the request, or unless the registrant withdraws its request. The cancellations for the Sergeant's propoxur products will not become effective before April 1, 2015, as described in Unit II. of this document. Regarding Wellmark, EPA intends to grant this request, if appropriate, according to the terms of the request, unless the Agency receives substantive comments within the comment period that would merit its further review of the request, or unless the registrant withdraws its request. If EPA grants Wellmark's voluntary request for cancellation, the cancellations for the Wellmark propoxur products will not become effective before April 1, 2015, as described in Unit II. of this document. Regarding both Sergeant's and Wellmark, if these cancellation requests are granted, the Agency will issue cancellation orders that will prescribe conditions pertaining to the sale, distribution, and use of existing stocks of cancelled products, as discussed in Unit V. of this document. For more information regarding the specific details of these voluntary cancellation requests, please see the registrants' requests, available in docket number EPA-HQ-OPP-2009-0207.

DATES: Comments must be received on or before February 21, 2014.

ADDRESSES: Submit your comments, identified by docket identification (ID) number EPA-HQ-OPP-2009-0207, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. ATTN: Kaitlin Keller.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Kaitlin Keller, Pesticide Re-Evaluation Division (7508P), Office of Pesticide Programs, Environmental Protection Agency, 1200 Pennsylvania Ave. NW., Washington, DC 20460-0001; telephone number: (703) 308-8172; email address: keller.kaitlin@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from Sergeant's Pet Care Products, Inc. (Sergeant's) and Wellmark International (Wellmark) to cancel all 7 propoxur pet collar products registered under FIFRA section 3. Propoxur is an N-methyl residual carbamate insecticide registered for use to control ticks, fleas, and a variety of insects including crickets, ants, wasps, cockroaches, and silverfish. It is registered for use in-and-around industrial, commercial (including food handling establishments and food processing plants), and residential facilities. Residential uses include bait traps, pastes, pet collars, and impregnated shelf paper. There are no labeled agricultural uses.

Sergeant's requested that EPA cancel its product registrations identified in Table 1 of this notice, such cancellations not to be effective before April 1, 2015. Wellmark requested that EPA cancel its product registrations identified in Table 1 of this notice, if appropriate according to the terms and conditions of the request, such cancellations not to be effective before February 1, 2015. Per a follow-up discussion on November 21, 2013, the Agency and Wellmark agreed to an extension of Wellmark's potential effective cancellation date to April 1, 2015. These registrations are listed in sequence by registration number in Table 1 of this unit.

Unless the Agency determines that there are substantive comments that warrant further review of the requests or the registrants withdraw their requests, EPA intends to issue orders in the Federal Register canceling all of the affected registrations, if appropriate, according to the terms and conditions outlined in the registrants' requests for cancellation.

Table 1—Registrations With Pending Requests for Cancellation
Registration No. | Product name | Chemical name
2517-61 | Sergeant's Dual Action Flea & Tick Collar (With D-Phenothrin) | Propoxur, MGK 264, Phenothrin.
2517-78 | Sergeant's Sendran Flea & Tick Collar | Propoxur.
2517-144 | Sergeant's 933 Plus Flea & Tick Collar (With D-Phenothrin and Pyriproxyfen) | Propoxur, MGK 264, Phenothrin, Pyriproxyfen.
2724-254 | Dog Collar for Flea Control | Propoxur.
2724-275 | Propoxur Flea Collar for Cats RF-101 | Propoxur.
2724-491 | RF 9907 Flea Collar for Cats and Kittens | Propoxur, S-Methoprene.
2724-493 | RF-2007 Collar | Propoxur, S-Methoprene.

Table 2 of this unit includes the names and addresses of record for all registrants of the products in Table 1 of this unit, in sequence by EPA company number. This number corresponds to the first part of the EPA registration numbers of the products listed in this unit.

Table 2—Registrants Requesting Voluntary Cancellation
EPA Company No. | Company name and address
2517 | Sergeant's Pet Care Products, Inc., 10077 South 134th St., Omaha, NE 68138.
2724 | Wellmark International, 1501 E. Woodfield Rd., Suite 200 West, Schaumburg, IL 60173.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) provides for the possibility of a 180-day comment period where the voluntary cancellation involves a pesticide registered for at least one minor agricultural use. Because propoxur is not registered for any minor agricultural uses, this 180-day comment provision does not apply, and EPA is providing a 30-day comment period on the requests for voluntary cancellation of the propoxur registrations.

IV. Procedures for Withdrawal of Request

Registrants who choose to withdraw a request for cancellation should submit such withdrawal in writing to the person listed under FOR FURTHER INFORMATION CONTACT.

V. Existing Stocks

Existing stocks are those stocks of registered pesticide products that are currently in the United States and that were packaged, labeled, and released for shipment prior to the effective date of the cancellation action.

In any order issued in response to these requests for cancellation of product registrations, EPA anticipates inclusion of the following provisions for the treatment of any existing stocks of the products identified in Table 1 of Unit II.: Sergeant's and/or Wellmark may not “release for shipment,” as that term is defined by 40 CFR 152.3, any additional product as currently formulated after April 1, 2015, and may not sell or distribute existing stocks of such product after April 1, 2016. All sale or distribution of such existing stocks by Sergeant's and/or Wellmark is prohibited after April 1, 2016, unless that sale or distribution is solely for the purpose of facilitating disposal or export of the product consistent with FIFRA section 17.

After April 1, 2016, persons other than the registrants will generally be allowed to sell, distribute, or use existing stocks until such stocks are exhausted, provided that such sale, distribution, or use is consistent with the terms of the previously approved labeling on, or that accompanied, the canceled products.

List of Subjects

Environmental protection, Pesticides and pests, Propoxur.

Dated: January 13, 2014.
Richard P. Keigwin, Jr.,
Director, Pesticide Re-Evaluation Division, Office of Pesticide Programs.

[FR Doc. 2014-01182 Filed 1-21-14; 8:45 am]

BILLING CODE 6560-50-P